DEPARTMENT OF ENERGY

Federal Energy Regulatory Commission

Notice of Application Tendered for Filing With the Commission, Soliciting Additional Study Requests, and Establishing Procedures for Relicensing and a Deadline for Submission of Final Amendments

December 10, 2003.

Take notice that the following hydroelectric application has been filed with the Commission and is available for public inspection.

a. Type of Application: Original Major License.

b. Project No.: 12454-001.

c. Date Filed: November 26, 2003.

d. Applicant: Energie Group, LLC.

e. Name of Project: Williams Hydroelectric Project.

f. Location: On the East Fork of the White River, in the Town of Williams, Lawrence County, Indiana. The project does not affect federal lands.

g. Filed Pursuant to: Federal Power Act 16 U.S.C. 791(a)-825(r).

h. Applicant Contact: Andrew R. Blystra, A.R. Blystra, Ltd. 15 West Sixth Street, Holland, MI 49423, (616) 394-0606 or Stacy Harriott, 641 Monroe Street Suite 108, Sheboygan Falls, WI 53085, (920) 467-9048.

i. FERC Contact: Carolyn Holsopple at (202) 502-6407, or carolyn.holsopple@ferc.gov.

j. Cooperating Agencies: We are asking federal, state, local, and tribal agencies with jurisdiction and/or special expertise with respect to environmental issues to cooperate with us in the preparation of the environmental document. Agencies who would like to request cooperating status should follow the instructions for filing comments described in item l below.

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for Filing Additional Study Requests and Requests for Cooperating Agency Status: 60 days from the filing date shown in paragraph (c), or January 25, 2004.

All documents (original and eight copies) should be filed with: Magalie R. Salas, Secretary, Federal Energy Regulatory Commission, 888 First Street, NE., Washington, DC 20426. The Commission's Rules of Practice require all interveners filing documents with the Commission to serve a copy of that document on each person on the official service list for the project. Further, if an intervener files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site http://www.ferc.gov under the “e-Filing” link. After logging into the e-Filing system, select “Comment on Filing” from the Filing Type Selection screen and continue with the filing process.

m. Status: This application is not ready for environmental analysis at this time.

n. Description of Project: The proposed Williams Project would be operated manually in a run-of-river mode by an operator living on site. The proposed project would consist of the following features: (1) A 295-foot-long, 32.5-foot-tall concrete spillway dam, with 2.5-foot buttresses on each side; (2) eight new intake gates (two to each flume), with new trashracks; (3) a 263-acre reservoir, with a normal reservoir elevation of 475.0 feet National Geodetic Vertical Datum and a storage capacity of 2,680 acre-feet; (4) four flumes, supplying water to the generating units; (5) stop-logs at the downstream end of each flume; (6) a 144-foot-long, 42-foot-wide concrete and steel powerhouse, containing five turbine and generating units (two Vertical Shaft Propeller—Nagler Type turbines, two Vertical shaft Double Runner Francis turbines and one new low-flow Vertical Shaft Francis turbine), having an installed capacity of 4,250 kilowatts; (7) a 12,470-volt transmission line; and (8) appurtenant facilities.

The applicant estimates that the average annual generation would be about 21,286,200 kilowatt-hours.

o. A copy of the application is available for review at the Commission in the Public Reference Room or may be viewed on the Commission's Web site at http://www.ferc.gov using the “FERRIS” link. Enter the docket number, excluding the last three digits in the docket number field (P-2603), to access the document. For assistance, contact FERC Online Support at FERCOnlineSupport@ferc.gov, or toll-free at 1-866-208-3676, or for TTY, (202) 502-8659. A copy is also available for inspection and reproduction at the address in item h above.

You may also register online at http://www.ferc.gov/esubscribenow.htm to be notified via email of new filings and issuances related to this or other pending projects. For assistance, contact FERC Online Support.

p. With this notice, we are initiating consultation with the INDIANA STATE HISTORIC PRESERVATION OFFICER (SHPO), as required by section 106, National Historic Preservation Act, and the regulations of the Advisory Council on Historic Preservation, 36 CFR 800.4.

q. Procedural schedule and final amendments: The application will be processed according to the following Hydro Licensing Schedule. Revisions to the schedule will be made if the Commission determines it necessary to do so:

Action | Tentative date
Issue Deficiency Letter | January 2004.
Issue Acceptance letter | April 2004.
Issue Scoping Document 1 for comments | May 2004.
Request Additional Information | July 2004.
Issue Scoping Document 2 | August 2004.
Notice of application is ready for environmental analysis | November 2004.
Notice of the availability of the draft EA | April 2005.
Notice of the availability of the final EA | August 2005.
Ready for Commission's decision on the application | November 2005.

Final amendments to the application must be filed with the Commission no later than 30 days from the issuance date of this notice.

Magalie R. Salas,
Secretary.

[FR Doc. E3-00573 Filed 12-16-03; 8:45 am]

BILLING CODE 6717-01-P